DEPARTMENT OF THE INTERIOR

Bureau of Indian Affairs

[178A2100DD/AAKC001030/A0A501010.999900 253G]

Indian Gaming; Tribal-State Class III Gaming Compact Amendment Taking Effect in the State of Wisconsin

AGENCY: Bureau of Indian Affairs, Interior.

ACTION: Notice.

SUMMARY: This notice announces that the Tribal-State Class III Gaming Compact Amendment entered into between the Lac du Flambeau Band of Lake Superior Chippewa Indians of the Lac du Flambeau Indian Reservation of Wisconsin and the State of Wisconsin is taking effect.

DATES: This notice takes effect July 18, 2017.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior (Secretary) to publish in the Federal Register notice of approved Tribal-State compacts that are for the purpose of engaging in Class III gaming activities on Indian lands. See Public Law 100-497, 25 U.S.C. 2701 et seq. The Secretary took no action on the amendment to the compact entered into between the Lac du Flambeau Band of Lake Superior Chippewa Indians of the Lac du Flambeau Indian Reservation of Wisconsin and the State of Wisconsin within 45 days of its submission. Therefore, the compact is considered to have been approved, but only to the extent the compact is consistent with IGRA. See 25 U.S.C. 2710(d)(8)(C).

Dated: June 26, 2017.
Michael S. Black,
Acting Assistant Secretary—Indian Affairs.

[FR Doc. 2017-15010 Filed 7-17-17; 8:45 am]

BILLING CODE 4337-15-P